DEPARTMENT OF JUSTICE

Drug Enforcement Administration

[Docket No. DEA-912]

Bulk Manufacturer of Controlled Substances Application: Groff NA Hemplex LLC

AGENCY: Drug Enforcement Administration, Justice.

ACTION: Notice of application.

SUMMARY: Groff NA Hemplex LLC has applied to be registered as a bulk manufacturer of basic class(es) of controlled substance(s). Refer to Supplementary Information listed below for further drug information.

DATES: Registered bulk manufacturers of the affected basic class(es), and applicants therefore, may file written comments on or objections to the issuance of the proposed registration on or before December 21, 2021. Such persons may also file a written request for a hearing on the application on or before December 21, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 16, 2021, Groff NA Hemplex LLC, 100 Redco Avenue, Suite A, Red Lion, Pennsylvania 17356-1436, applied to be registered as a bulk manufacturer of the following basic class(es) of controlled substance(s):

Controlled substance | Drug code | Schedule
Marihuana Extract | 7350 | I
Marihuana | 7360 | I
Tetrahydrocannabinols | 7370 | I

The company is federally authorized to conduct cultivation activities in order to bulk manufacture the listed controlled substances for internal use and for sale to federally registered research investigators. No other activities for these drug codes are authorized for this registration.

Brian S. Besser,
Acting Assistant Administrator.

[FR Doc. 2021-23034 Filed 10-21-21; 8:45 am]

BILLING CODE P